DEPARTMENT OF JUSTICE

Lodging of Proposed Consent Decree and Settlement Agreement Under the Clean Air Act and Bankruptcy Rule 9019

On January 7, 2021, a proposed Consent Decree and Settlement Agreement was lodged in the United States Bankruptcy Court for the Southern District of Texas in In re Chesapeake Energy Corporation, et al., Case No. 20-33233 (DRJ).

The proposed Consent Decree and Settlement Agreement resolves civil claims by the United States, on behalf of the Environmental Protection Agency (EPA), against Debtors Chesapeake Exploration LLC and Chesapeake Appalachia LLC (collectively Chesapeake) relating to Clean Air Act (CAA) violations at 159 natural gas production facilities formerly owned and operated by Chesapeake in Ohio. Specifically, the United States has alleged that Chesapeake violated requirements set forth in Section 111 of the CAA, the Standards of Performance for Crude Oil and Natural Gas Production, Transmission, and Distribution found at 40 CFR part 60, subpart OOOO, the Standards of Performance for Crude Oil and Natural Gas Production, Transmission, and Distribution for Which Construction, Modification, or Reconstruction Commenced After September 18, 2015 found in 40 CFR part 60, subpart OOOOa, and federally-enforceable general operating permits applicable to Chesapeake's natural gas production facilities issued by the Ohio Environmental Protection Agency. The Consent Decree and Settlement Agreement resolves the United States' claims for the above-described CAA violations and requires Chesapeake to pay a civil penalty of $1.2 million in full and without reduction from the Debtor's estate. The Consent Decree and Settlement Agreement requires approval of the Bankruptcy Court after a thirty-day public comment period.

The publication of this notice opens a period for public comment on the Consent Decree and Settlement Agreement. Comments should be addressed to the Assistant Attorney General, Environment and Natural Resources Division and should refer to In re Chesapeake Energy Corporation, et al, D.J. Ref. No. 90-5-2-1-11724. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree and Settlement Agreement may be examined and downloaded at this Justice Department website: https://www.justice.gov/enrd/consent-decrees. We will provide a paper copy of the Consent Decree and Settlement Agreement upon written request and payment of reproduction costs. Please mail your request and payment to: Consent Decree Library, U.S. DOJ—ENRD, P.O. Box 7611, Washington, DC 20044-7611.

Please enclose a check or money order for $7.75 (25 cents per page reproduction cost) payable to the United States Treasury.

Patricia McKenna,
Assistant Section Chief, Environmental Enforcement Section, Environment and Natural Resources Division.

[FR Doc. 2021-00539 Filed 1-12-21; 8:45 am]

BILLING CODE P